DEPARTMENT OF DEFENSE

Defense Acquisition Regulations System

[Docket Number DARS-2018-0010; OMB Control Number 0704-0187]

Information Collection Requirement; Defense Federal Acquisition Regulation Supplement; Information Collection in Support of the DoD Acquisition Process (Various Miscellaneous Requirements)

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through July 31, 2018. DoD proposes that OMB extend its approval for three additional years.

DATES: DoD will consider all comments received by May 14, 2018.

ADDRESSES: You may submit comments, identified by OMB Control Number 0704-0187, using any of the following methods:

○ Federal eRulemaking Portal: http://www.regulations.gov. Follow the instructions for submitting comments.

○ Email: osd.dfars@mail.mil. Include OMB Control Number 0704-0187 in the subject line of the message.

○ Fax: 571-372-6094.

○ Mail: Defense Acquisition Regulations System, Attn: Ms. Amy Williams, OUSD (A&S) DPAP (DARS), 3060 Defense Pentagon, Room 3B941, Washington, DC 20301-3060.

Comments received generally will be posted without change to http://www.regulations.gov, including any personal information provided.

FOR FURTHER INFORMATION CONTACT: Ms. Amy Williams, 571-372-6106. The information collection requirements addressed in this notice are available electronically on the internet at: http://www.acq.osd.mil/dpap/dfars/index.htm. Paper copies are available from Ms. Amy Williams, OUSD (A&S) DPAP (DARS), Room 3B941, 3060 Defense Pentagon, Washington, DC 20301-3060.

SUPPLEMENTARY INFORMATION:

Title, Associated Form, and OMB Number: Information Collection in Support of the DoD Acquisition Process (Various Miscellaneous Requirements); OMB Control Number 0704-0187.

Needs and Uses: This information collection requirement pertains to information required in DFARS parts 208, 209, 235, and associated clauses in part 252 that an offeror must submit to DoD in response to a request for proposals or an invitation for bids or a contract requirement. DoD uses this information to—

• Determine whether to provide precious metals as Government-furnished material;

• Determine whether a foreign government owns or controls the offeror to prevent access to proscribed information;

• Determine whether there is a compelling reason for a contractor to enter into a subcontract in excess of $30,000 with a firm, or subsidiary of a firm, that is identified in the “List of Parties Excluded from Federal Procurement and Nonprocurement” as being ineligible for award of Defense subcontracts because it is owned or controlled by the government of a country that is a state sponsor of terrorism;

• Evaluate claims of indemnification for losses or damages occurring under a research and development contract; and

• Keep track of radio frequencies on electronic equipment under research and development contracts so that the user does not override or interfere with the use of that frequency by another user.

Affected Public: Businesses or other for-profit and not-for-profit institutions.

Respondent's Obligation: Required to obtain or retain benefits.

Type of Request: Revision of a currently approved collection.

Number of Respondents: 308.

Responses per Respondent: 1.

Annual Responses: 308.

Average Burden per Response: 2 hours.

Annual Burden Hours: 616.

Frequency: On occasion.

Summary of Information Collection

This information collection pertains to information, as required in DFARS Parts 208, 209, 235, and associated clauses in Part 252 that an offeror must submit to DoD in response to a request for proposals or an invitation for bids or a contract requirement. The information collection covers the following DFARS requirements:

• 252.208-7000, Intent to Furnish Precious Metals as Government-Furnished Material. Paragraph (b) of this clause requires an offeror to cite the type and quantity of precious metals required in the performance of the contract. Paragraph (c) requires the offeror to submit two prices for each deliverable item that contains precious metals: one based on the Government furnishing the precious metals, and the other based on the contractor furnishing the precious metals.

• 252.209-7002, Disclosure of Ownership or Control by a Foreign Government. Paragraph (d) requires the offeror to provide a disclosure with its offer of any interest a foreign government has in the offeror when that interest constitutes control of the offeror by a foreign government.

• 252.209-7004, Subcontracting with Firms that are Owned or Controlled by the Government of a Country that is a State Sponsor of Terrorism. Paragraph (b) requires the Contractor to notify the contracting officer in writing before entering into a subcontract in excess of $30,000 with a party that is identified in the List of Parties Excluded from Federal Procurement and Nonprocurement Programs as being ineligible for award of Defense subcontracts because it is owned or controlled by the government of a country that is a state sponsor of terrorism. The contractor must provide the name of the proposed subcontractor and the compelling reasons for doing business with the subcontractor.

• 252.235-7000, Indemnification under 10 U.S.C. 2534—Fixed Price; 252.235-7001, and Indemnification under 10 U.S.C. 2534—Cost-Reimbursement. Paragraphs (f) and (e), respectively, of these clauses require contractors to notify the contracting officer of any claim and provide (i) proof or evidence of a claim and (ii) copies of all pertinent papers when the contractor is to be indemnified.

• DFARS 252.235-7003, Frequency Authorization. Paragraph (b) requires that the contractor or subcontractor provide to the contracting officer the technical operating characteristics for any experimental, developmental, or operational equipment for which the appropriate frequency allocation has not been made.

Jennifer L. Hawes,
Regulatory Control Officer, Defense Acquisition Regulations System.

[FR Doc. 2018-05177 Filed 3-13-18; 8:45 am]

BILLING CODE 5001-06-P